NATIONAL FOUNDATION ON THE ARTS AND THE HUMANITIES

National Endowment for the Arts

45 CFR Part 1148

RIN 3135-AA27

Procedures for Disclosure of Records Under the Freedom of Information Act; Corrections

AGENCY: National Endowment for the Arts, National Foundation on the Arts and the Humanities.

ACTION: Correcting amendments.

SUMMARY: On February 27, 2019, the National Endowment for the Arts revised its FOIA rules. That document inadvertently contained two paragraphs with the same designation. This document corrects the final regulations.

DATES: Effective March 6, 2019.

FOR FURTHER INFORMATION CONTACT: Daniel Fishman, Attorney Advisor, National Endowment for the Arts, 400 7th St. SW, Washington, DC 20506, Telephone: 202-682-5514.

SUPPLEMENTARY INFORMATION: On February 27, 2019, the Arts Endowment published its final action in Procedures for Disclosure of Records under the Freedom of Information Act (84 FR 6344). The final regulatory text inadvertently contained two paragraphs that were both designated to appear at § 1148.10(a)(1)(ii). This correction amends the regulations to properly designate these paragraphs.

List of Subjects in 45 CFR Part 1148

Administrative practice and procedure, Archives and records, Freedom of information.

Accordingly, 45 CFR chapter XI, subchapter B, part 1148 is corrected by making the following correcting amendments:

PART 1148—PROCEDURES FOR DISCLOSURE OF RECORDS UNDER THE FREEDOM OF INFORMATION ACT (FOIA)

1. The authority citation for part 1148 continues to read as follows:

Authority: 5 U.S.C. 552; 28 U.S.C. 1746; 31 U.S.C. 3717; E.O. 12600, 52 FR 23781, 3 CFR, 1987 Comp.

§ 1148.10 [Amended]

2. In § 1148.10, redesignate the second paragraph (a)(1)(ii) as paragraph (a)(1)(iii).

Dated: February 28, 2019.
Jillian Miller,
Director, Office of Guidelines and Panel Operations, National Endowment for the Arts.

[FR Doc. 2019-03968 Filed 3-5-19; 8:45 am]

BILLING CODE 7537-01-P